DEPARTMENT OF THE TREASURY

Submission for OMB Review; Comment Request

November 27, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 5, 2001, to be assured of consideration.

Bureau of the Public Debt (PD)

OMB Number: 1535-0089.

Form Number: None.

Type of Review: Extension.

Title: Implementing Regulations: Government Securities Act of 1986, as Amended.

Description: The regulations require government securities broker/dealers to make and keep certain records concerning government securities activities, to submit financial reports and make certain disclosures to investors. The regulations also require depository institutions to keep certain records of non-fiduciary custodial holdings of government securities. The regulations and associated collections are fundamental to customer protection and financial responsibility.

Respondents: Business or other for-profit.

Estimated Number of Respondents/Recordkeepers: 16,931.

Estimated Burden Hours Per Respondent/Recordkeeper: 21 hours, 50 minutes.

Frequency of Response: On occasion, Monthly, Quarterly, Annually, Other.

Estimated Total Reporting/Recordkeeping Burden Hours: 369,620 hours.

OMB Number: 1535-0104.

Form Number: PD F 2066.

Type of Review: Extension.

Title: Application by Survivors for Payment of Bond or Check Issued Under the Armed Forces Leave Act of 1946, as Amended.

Description: PD F 2066 is used as an application by survivors for payment of a bond or check issued under the Armed Forces Leave Act of 1946 to veterans of WW II.

Respondents: Individuals or households.

Estimated Number of Respondents: 400.

Estimated Burden Hours Per Respondent: 30 minutes.

Frequency of Response: On occasion.

Estimated Total Reporting Burden Hours: 200 hours.

OMB Number: 1535-0105.

Form Number: PD F 2481.

Type of Review: Extension.

Title: Application for Recognition as Natural Guardian of Minor Not Under Legal Guardianship and for Disposition of Minor's Interest in Registered Securities.

Description: The form is used by the natural guardian of a minor not under legal guardianship to request disposition of securities erroneously registered in the name of the minor.

Respondents: Individuals or households.

Estimated Number of Respondents: 25.

Estimated Burden Hours Per Respondent: 30 minutes.

Frequency of Response: On occasion.

Estimated Total Reporting Burden Hours: 13 hours.

OMB Number: 1535-0108.

Form Number: PD F 2471.

Type of Review: Extension.

Title: Certificate to Support Application for Relief on Account of Lost, Stolen or Destroyed United States Securities.

Description: The form is executed by individuals to support an application for relief on account of lost, stolen or destroyed United States Securities.

Respondents: Individuals or households.

Estimated Number of Respondents: 400.

Estimated Burden Hours Per Respondent: 30 minutes.

Frequency of Response: On occasion.

Estimated Total Reporting Burden Hours: 200 hours.

Clearance Officer: Vicki S. Thorpe (304) 480-6553, Bureau of the Public Debt, 200 Third Street, Parkersburg, WV 26106-1328.

OMB Reviewer: Alexander T. Hunt (202) 395-7860, Office of Management and Budget, Room 10226, New Executive Office Building, Washington, DC 20503.

Lois K. Holland,
Departmental Reports, Management Officer.

[FR Doc. 00-30967 Filed 12-5-00; 8:45 am]

BILLING CODE 4810-40-U